DEPARTMENT OF HEALTH AND HUMAN SERVICES

National Institutes of Health

Center for Scientific Review; Amended Notice of Meeting

Notice is hereby given of a change in the meeting of the Population Sciences and Epidemiology Integrated Review Group Reproductive, Perinatal and Pediatric Health Study Section, October 12, 2023, 9:00 a.m. to October 13, 2023, 8:00 p.m., Cambria Hotel College Park, 8321 Baltimore Avenue, College Park, MD, 20740 which was published in the Federal Register on September 18, 2023, 2023-20104, 88 FR 63969.

This meeting is being amended to change the location from Cambria Hotel College Park, 8321 Baltimore Avenue, College Park, MD 20740 to Sheraton Rockville Hotel, 920 King Farm Boulevard, Rockville, MD 20850. The meeting is closed to the public.

Dated: September 21, 2023.
Melanie J. Pantoja,
Program Analyst, Office of Federal Advisory Committee Policy.

[FR Doc. 2023-20896 Filed 9-25-23; 8:45 am]

BILLING CODE 4140-01-P